DEPARTMENT OF LABOR

Employment and Training Administration

[TA-W-57,469 and TA-W-57,469A]

NABCO, Inc., a Subsidiary of Remy International, Kaleva, MI, and Marion MI; Dismissal of Application for Reconsideration

Pursuant to 29 CFR 90.18(C) an application for administrative reconsideration was filed with the Director of the Division of Trade Adjustment Assistance for workers at NABCO, Inc., a subsidiary of Remy International, Kaleva, Michigan and Marion, Michigan. The application contained no new substantial information which would bear importantly on the Department's determination. Therefore, dismissal of the application was issued.

TA-W-57,469; NABCO, Inc., a subsidiary of Remy International, Kaleva, Michigan and

TA-W-57,469A; Marion, Michigan (September 7, 2005)

Signed at Washington, DC, this 9th day of September 2005.
Timothy Sullivan,
Director, Division of Trade Adjustment Assistance.

[FR Doc. 05-18545 Filed 9-16-05; 8:45 am]

BILLING CODE 4510-30-P